DEPARTMENT OF STATE

[Public Notice 6118]

In the Matter of the Designation of HARAKAT UL-JIHAD-I-ISLAMI/BANGLADESH (HUJI-B) aka Islami Dawat-e-Kafela (IDEK), aka Harakat ul-Jihad e Islami Bangladesh, aka Harkatul Jihad al Islam, aka Harkatul Jihad, aka Harakat ul Jihad al Islami, aka Harkat ul Jihad al Islami, aka Harkat-ul-Jehad-al-Islami, aka Harakat ul Jihad Islami Bangladesh as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Harakat ul-Jihad-i-Islami/Bangladesh (HUJI-B), aka Islami Dawat-e-Kafela (IDEK), aka Harakat ul-Jihad e Islami Bangladesh, aka Harkatul Jihad alIslam, aka Harkatul Jihad, aka Harakat ul Jihad al Islami, aka Harkat ul Jihad al Islami, aka Harkat-ul-Jehad-al-Islami, aka Harakat ul Jihad Islami Bangladesh.

Therefore, I hereby designate that organization and its aliases as a foreign terrorist organization pursuant to section 219 of the INA.

This designation shall be published in the Federal Register.

Dated: February 15, 2008.
Condoleezza Rice,
Secretary of State, Department of State.

[FR Doc. E8-4254 Filed 3-4-08; 8:45 am]

BILLING CODE 4710-10-P